DEPARTMENT OF HOUSING AND URBAN DEVELOPMENT

[Docket No. FR-4809-N-45]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Steward B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265 (this is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing its as either suitable/available or suitable/unavailable.

For properties listed as suitable/unavailable, the landholding agency has decided that the property cannot be declared excess or made available for use to assist the homeless, and the property will not be available.

Properties listed as unsuitable will not be made available for any other purpose for 20 days from the date of this notice. Homeless assistance providers interested in a review by HUD of the determination of unsuitability should call the free information line at 1-800-927-7588 for detailed instructions or write a letter to Mark Johnston at the address listed at the beginning of this notice. Included in the request for review should be the property address (including ZIP Code), the date of publication in the Federal Register, the landholding agency, and the property number.

For more information regarding particular properties identified in this notice (i.e., acreage, floor plan, existing sanitary facilities, exact street address), providers should contact the appropriate landholding agencies at the following addresses: Army: Ms. Julie Jones-Conte, Department of the Army, Office of the Assistant Chief of Staff for Installation Management, Attn: DAIM-ME, Room 1E677, 600 Army Pentagon, Washington, DC 20310-0600; (703) 692-9223; GSA: Mr. Brian K. Polly, Assistant Commissioner, General Services Administration, Office of Property Disposal, 18th and F Streets, NW., Washington, DC 20405; (202) 501-0052; Navy: Mr. Charles C. Cocks, Director, Department of the Navy, Real Estate Policy Division, Naval Facilities Engineering Command, Washington Navy Yard, 1322 Patterson Ave., SE., Suite 1000, Washington, DC 20374-5065; (202) 685-9200 (these are not toll-free numbers).

Dated: October 30, 2003.
John D. Garrity,
Director, Office of Special Needs Assistance Programs.

TITLE V, FEDERAL SURPLUS PROPERTY PROGRAM FEDERAL REGISTER REPORT FOR 11/7/2003

Suitable/Available Properties

Buildings (by State)

Alaska

Bldg. 00001

Kiana Natl Guard Armory

Kiana Co: AK 99749-

Landholding Agency: Army

Property Number: 21200340075

Status: Excess

Comment: 1200 sq. ft., butler bldg., needs repair, off-site use only

Arizona

Bldg. 00500

Yuma Proving Ground

Yuma Co: AZ 85365-9498

Landholding Agency: Army

Property Number: 21200340076

Status: Unutilized

Comment: 4171 sq. ft., needs rehab, possible asbestos/lead paint, most recent use—training, off-site use only

Colorado

Bldg. T-211

Fort Carson

Ft. Carson Co: El Paso CO 80913-

Landholding Agency: Army

Status: Unutilized

Comment: 4172 sq. ft., presence of asbestos/lead paint, most recent use—office, off-site use only

Bldg. S6250

Fort Carson

Ft. Carson Co: El Paso CO 80913-

Landholding Agency: Army

Property Number: 21200340083

Status: Unutilized

Comment: 22,125 sq. ft., presence of asbestos/lead paint, most recent use—office, off-site use only

Bldg. S6268

Fort Carson

Ft. Carson Co: El Paso CO 80913-

Landholding Agency: Army

Property Number: 21200340085

Status: Unutilized

Comment: 840 sq. ft., presence of asbestos/lead paint, most recent use—office, off-site use only

Maine

Bldg. 20

Naval Air Station

Brunswick Co: Cumberland ME

Landholding Agency: Navy

Property Number: 77200340026

Status: Excess

Comment: 25,871 sq. ft., most recent use—office, off-site use only

Bldg. 41

Naval Air Station

Brunswick Co: Cumberland ME

Landholding Agency: Navy

Property Number: 77200340027

Status: Excess

Comment: 10,526 sq. ft., most recent use—police station, off-site use only

Bldg. 109

Naval Air Station

Brunswick Co: Cumberland ME

Landholding Agency: Navy

Property Number: 77200340028

Status: Excess

Comment: 529 sq. ft., most recent use—dog kennel, off-site use only

Bldg. 225

Naval Air Station

Brunswick Co: Cumberland ME

Landholding Agency: Navy

Property Number: 77200340029

Status: Excess

Comment: 15,020 sq. ft., most recent use—auto maintenance, off-site use only

Bldg. 252

Naval Air Station

Brunswick Co: Cumberland ME

Landholding Agency: Navy

Property Number: 77200340030

Status: Excess

Comment: 5,100 sq. ft., most recent use—auto maintenance, off-site use only

Bldg. H-10

Portsmouth Naval Shipyard

Kittery Co: York ME

Landholding Agency: Navy

Property Number: 77200340031

Status: Excess

Comment: 27,201 sq. ft., presence of asbestos/lead paint, most recent use—support functions, off-site use only

Bldg. H-25

Portsmouth Naval Shipyard

Kittery Co: York ME

Landholding Agency: Navy

Property Number: 77200340032

Status: Excess

Comment: 1,573 sq. ft., presence of asbestos/lead paint, most recent use—storage, off-site use only

Bldg. H-30

Portsmouth Naval Shipyard

Kittery Co: York ME

Landholding Agency: Navy

Property Number: 77200340033

Status: Excess

Comment: 523 sq. ft., presence of asbestos/lead paint, most recent use—storage, off-site use only

Bldg. 46

Portsmouth Naval Shipyard

Kittery Co: York ME

Landholding Agency: Navy

Property Number: 77200340034

Status: Excess

Comment: 2,992 sq. ft., presence of asbestos/lead paint, most recent use—shredding facility, off-site use only

Bldg. 75

Portsmouth Naval Shipyard

Kittery Co: York ME 03904-

Landholding Agency: Navy

Property Number: 77200340035

Status: Excess

Comment: 44,818 sq. ft., presence of asbestos/lead paint, most recent use—shop, off-site use only

Bldg. 76

Portsmouth Naval Shipyard

Kittery Co: York ME

Landholding Agency: Navy

Property Number: 77200340036

Status: Excess

Comment: 37,466 sq. ft., presence of asbestos/lead paint, most recent use—shop, off-site use only

Bldg. 85

Portsmouth Naval Shipyard

Kittery Co: York ME

Landholding Agency: Navy

Property Number: 77200340037

Status: Excess

Comment: 742 sq. ft., presence of asbestos/lead paint, off-site use only

Bldg. 157

Portsmouth Naval Shipyard

Kittery Co: York ME

Landholding Agency: Navy

Property Number: 77200340038

Status: Excess

Comment: 640 sq. ft., presence of asbestos/lead paint, most recent use—office, off-site use only

Bldg. 184

Portsmouth Naval Shipyard

Kittery Co: York ME

Landholding Agency: Navy

Property Number: 77200340039

Status: Excess

Comment: 10,610 sq. ft., presence of asbestos/lead paint, most recent use—offices, off-site use only

Land (by State)

Ohio

Land

Defense Supply Center

Columbus Co: Franklin OH 43216-5000

Landholding Agency: Army

Property Number: 21200340094

Status: Excess

Comment: 11 acres, railroad access

Suitable/Unavailable Properties

Building (by State)

Arizona

Bldg. 00701

Yuma Proving Ground

Yuma Co: AZ 85365-9498

Landholding Agency: Army

Property Number: 21200340077

Status: Unutilized

Comment: 1548 sq. ft., needs repair, possible asbestos/lead paint, most recent use—police station, off-site use only

Bldg. 00702

Yuma Proving Ground

Yuma Co: AZ 85365-9498

Landholding Agency: Army

Property Number: 2100340078

Status: Unutilized

Comment: 3137 sq. ft., needs repair, possible asbestos/lead paint, most recent use—offices, off-site use only

Colorado

Bldg. T-203

Fort Carson

Ft. Carson Co: El Paso CO 80913-

Landholding Agency: Army

Property Number: 2120340078

Status: Unutilized

Comment: 1628 sq. ft., needs repair, possible asbestos/lead paint, most recent use—storage, off-site use only

Bldgs. T-223 thru T-227

Fort Carson

Ft. Carson Co: El Paso CO 80913-

Landholding Agency: Army

Property Number: 21200340081

Status: Unutilized

Comment: 9000 sq. ft., presence of asbestos/lead paint, most recent use—warehouse, off-site use only

Bldg. S6222

Fort Carson

Ft. Carson Co: El Paso CO 80913-

Landholding Agency: Army

Property Number: 21200340082

Status: Unutilized

Comment: 19,225 sq. ft., presence of asbestos/lead paint, most recent use—office, off-site use only

Bldg. S6264

Fort Carson

Ft. Carson Co: El Paso CO 80913-

Landholding Agency: Army

Property Number: 21200340084

Status: Unutilized

Comment: 19,499 sq. ft., most recent use—office, off-site use only

Kentucky

Bldg. 2843

Fort Campbell

Ft. Campbell Co: Christian KY 42223-

Landholding Agency: Army

Property Number: 21200340086

Status: Unutilized

Comment: 1,530 sq. ft., presence of asbestos, most recent use—office, off-site use only

Missouri

Bldg. 1230

Fort Leonard Wood

Ft. Leonard Wood Co: Pulaski MO 65743-8944

Landholding Agency: Army

Property Number: 21200340087

Status: Unutilized

Comment: 9,160 sq. ft., most recent use—training, off-site use only

Bldg. 1621

Fort Leonard Wood

Ft. Leonard Wood Co: Pulaski MO 65743-8944

Landholding Agency: Army

Property Number: 21200340088

Status: Unutilized

Comment: 2,400 sq. ft., most recent use—exchange branch, off-site use only

Bldg. 03289

Fort Leonard Wood

Ft. Leonard Wood Co: Pulaski MO 65743-8944

Landholding Agency: Army

Property Number: 21200340089

Status: Unutilized

Comment: 8,120 sq. ft., presence of lead paint, most recent use—storage, off-site use only

Bldg. 03291

Fort Leonard Wood

Ft. Leonard Wood Co: Pulaski MO 65743-8944

Landholding Agency: Army

Property Number: 21200340090

Status: Unutilized

Comment: 3,108 sq. ft., presence of lead paint, most recent use—motor repair shop, off-site use only

Bldg. 6822

Fort Leonard Wood

Ft. Leonard Wood Co: Pulaski MO 65743-8944

Landholding Agency: Army

Property Number: 21200340091

Status: Unutilized

Comment: 4,000 sq. ft., most recent use—storage, off-site use only

Bldg. 9000

Fort Leonard Wood

Ft. Leonard Wood Co: Pulaski MO 65743-8944

Landholding Agency: Army

Property Number: 21200340092

Status: Unutilized

Comment: 1,440 sq. ft., most recent use—welcome center, off-site use only

Bldg. 10201

Fort Leonard Wood

Ft. Leonard Wood Co: Pulaski MO 65743-8944

Landholding Agency: Army

Property Number: 21200340093

Status: Unutilized

Comment: 1,200 sq. ft., most recent use—storage, off-site use only

Unsuitable Properties

Buildings (by State)

Alabama

Bldgs. 8785, 8786

Redstone Arsenal

Redstone Arsenal Co: Madison AL 35898-5000

Landholding Agency: Army

Property Number: 21200340095

Status: Unutilized

Reasons: Secured Area, Extensive deterioration

Maine

Bldg. 150

Portsmouth Naval Shipyard

Kittery Co: York ME

Landholding Agency: Navy

Property Number: 77200340040

Status: Excess

Reason: Extensive deterioration

Maryland

Bldgs. 200068, 200069

JHU Applied Physics Lab

Laurel Co: Howard MD 20723-

Landholding Agency: Navy

Property Number: 77200340015

Status: Excess

Reason: Extensive deterioration

4 Bldgs.

JHU Applied Physics Lab

200075, 200076, 200077, 200079

Laurel Co: Howard MD 20723-

Landholding Agency: Navy

Property Number: 77200340016

Status: Excess

Reason: Extensive deterioration

Bldgs. 200083, 200086

JHU Applied Physics Lab

Laurel Co: Howard MD 20723-

Landholding Agency: Navy

Property Number: 77200340017

Status: Excess

Reason: Extensive deterioration

Bldgs. 200087, 200088, 200089

JHU Applied Physics Lab

Laurel Co: Howard MD 20723-

Landholding Agency: Navy

Property Number: 77200340018

Status: Excess

Reason: Extensive deterioration

5 Bldgs.

JHU Applied Physics Lab

200091, 200095, 200096, 200098, 200099

Laurel Co: Howard MD 20723-

Landholding Agency: Navy

Property Number: 77200340019

Status: Excess

Reason: Extensive deterioration

Bldgs. 200101, 200106, 200107

JHU Applied Physics Lab

Laurel Co: Howard MD 20723-

Landholding Agency: Navy

Property Number: 77200340020

Status: Excess

Reason: Extensive deterioration

Bldgs. 200108, 200109, 200110

JHU Applied Physics Lab

Laurel Co: Howard MD 20723-

Landholding Agency: Navy

Property Number: 77200340021

Status: Excess

Reason: Extensive deterioration

Bldgs. 200120, 200121, 200122

JHU Applied Physics Lab

Laurel Co: Howard MD 20773-

Landholding Agency: Navy

Property Number: 77200340022

Status: Excess

Reason: Extensive deterioration

Bldgs. 200124, 200125, 200126

JHU Applied Physics Lab

Laurel Co: Howard MD 20773-

Landholding Agency: Navy

Property Number: 77200340023

Status: Excess

Reason: Extensive deterioration

Bldgs. 200128, 200133

JHU Applied Physics Lab

Laurel Co: Howard MD 20723-

Landholding Agency: Navy

Property Number: 77200340024

Status: Excess

Reason: Extensive deterioration

Bldgs. 200137, 200138

JHU Applied Physics Lab

Laurel Co: Howard MD 20773-

Landholding Agency: Navy

Property Number: 77200340025

Status: Excess

Reason: Extensive deterioration

Land (by State)

Florida

Navy Site Alpha

Homestead Co: Miami/Dade FL

Landholding Agency: GSA

Property Number: 54200330009

Status: Surplus

Reason: Flooding

GSA Number: 4-N-FL-1079

[FR Doc. 03-27783 Filed 11-6-03; 8:45 am]

BILLING CODE 4210-29-M